OFFICE OF THE UNITED STATES TRADE REPRESENTATIVE

Generalized System of Preferences (GSP): Notice Regarding the 2008 Annual Product Review: Competitive Need Limitations (CNL) Warning List and the Filing of Petitions Requesting CNL Waivers

AGENCY: Office of the United States Trade Representative.

ACTION: Notice.

SUMMARY: This notice is to inform the public of the availability of eight-month 2008 import statistics and to announce that the Office of the United States Trade Representative (USTR) will not be publishing a “warning list” of products that may exceed statutory competitive need limitations (CNLs), pertinent to the 2008 GSP Annual Review. Each interested party is responsible for conducting its own review of 2008 import data with regard to the possible application of GSP CNLs and submitting a petition to waive the CNLs if necessary. This information can be found on the U.S. International Trade Commission (USITC) Web site (http://dataweb.usitc.gov). The deadline for submission of petitions requesting CNL waivers for consideration in the 2008 GSP Annual Review is 5 p.m., Thursday, November 13, 2008. The list of petitions for CNL waivers accepted for review will be announced in the Federal Register at a later date.

FOR FURTHER INFORMATION CONTACT: Regina Teeter, GSP Program, Office of the United States Trade Representative, 1724 F Street, NW., Room F-214, Washington, DC 20508. The telephone number is (202) 395-6971, the fax number is (202) 395-9481, and the e-mail address is Regina_Teeter@ustr.eop.gov.

SUPPLEMENTARY INFORMATION:

I. Competitive Need Limitations

The GSP program provides for the duty-free importation of designated articles when imported from designated beneficiary developing countries (BDCs). The GSP program is authorized by title V of the Trade Act of 1974 (19 U.S.C. 2461, et seq. ), as amended (the “1974 Act”), and is implemented in accordance with Executive Order 11888 of November 24, 1975, as modified by subsequent Executive Orders and Presidential Proclamations.

Section 503(c)(2)(A) of the 1974 Act sets out the two competitive need limitations (CNLs). When the President determines that a BDC exported to the United States during a calendar year either: (1) A quantity of a GSP-eligible article having a value in excess of the applicable amount for that year ($135 million for 2008), or (2) a quantity of a GSP-eligible article having a value equal to or greater than 50 percent of the value of total U.S. imports of the article from all countries (the “50 percent CNL”), the President must terminate GSP duty-free treatment for that article from that BDC by no later than July 1 of the next calendar year. However, Section 503(d) of the 1974 Act sets forth the criteria under which the President may grant a waiver of the CNL for articles imported from specific BDCs. Product petitions requesting CNL waivers for GSP-eligible articles from beneficiary developing countries that exceed the CNLs in 2008 must be filed in the 2008 Annual Review.

Under section 503(c)(2)(F) of the 1974 Act, the President may also waive the 50 percent CNL with respect to an eligible article imported from a BDC if the value of total imports of that article from all countries during the calendar year did not exceed the applicable de minimis amount for that year. Comments on de minimis waivers will be requested after publication of a separate Federal Register notice in February 2008.

II. Implementation of Competitive Need Limitations

Exclusions from GSP duty-free treatment where CNLs have been exceeded will be effective July 1, 2009, unless granted a waiver before that date by the President. CNL exclusions will be based on full calendar-year 2008 import statistics. Full calendar-year 2008 data for individual tariff subheadings will be available in February 2009 on the Web site of the U.S. International Trade Commission at http://dataweb.usitc.gov/.

III. 2008 Competitive Need Limitations Petition Procedure

A. Eight Month Import Data and Announcement That “Warning List” Will Not Be Published

For the purposes of the Competitive Need Limitations, the Office of the United States Trade Representative (USTR) will not be publishing a “warning list” of products that may exceed statutory competitive need limitations (CNLs). Each interested party is responsible for conductingits own review of 2008 import data with regard to the possible application of GSP CNLs. This information can be found on the U.S. International Trade Commission (USITC) Web site (http://dataweb.usitc.gov). Interested parties, including foreign governments, may submit petitions to waive the “competitive need limitations” for individual beneficiary developing countries with respect to specific GSP-eligible articles (these limits do not apply to either least-developed beneficiary developing countries or AGOA beneficiary sub-Saharan African countries). As announced in the May 15, 2008, Federal Register notice, petitions requesting CNL waivers must be received by the GSP Subcommittee of the Trade Policy Staff Committee no later than 5 p.m. on Thursday, November 13, 2008, in order to be considered in the 2008 Annual Review. Petitions submitted after the deadline will not be considered for review. The list of product petitions accepted for review will be announced in the Federal Register at a later date.

As specified in 15 CFR 2007.1, all petitions requesting CNL waivers for GSP-eligible articles from beneficiary developing countries must include a detailed description of the product and the identification of the pertinent item number of the Harmonized Tariff Schedule of the United States (HTSUS) under which the product is classified. The HTSUS number for the relevant product should be provided at the 8-digit level. Further, petitions requesting CNL waivers for GSP-eligible articles that exceed the CNLs in 2008 must be filed in the 2008 Annual Review. In order to allow petitioners an opportunity to review additional 2008 U.S. import statistics, these petitions may be filed after Wednesday, June 18, 2008, but must be received on or before Thursday, November 13, 2008, in order to be considered in the 2008 Annual Review. Copies will be made available for public inspection after the November 13, 2008, deadline.

B. Requirements for Submissions

Petitions must be submitted, in English, to the Chairman of the GSP Subcommittee of the Trade Policy Staff Committee (TPSC) by the deadline set forth in this notice.

Any person or party making a submission is strongly advised to review the GSP regulations and GSP Guidebook (available at: http://www.ustr.gov/Trade_Development/Preference_Programs/GSP/General_GSP_Program_Information/Section_Index.html). Petitions with respect to waivers of the “competitive need limitations” must meet the relevant information requirements listed in sections 2007.1 (a) and (c) of the GSP regulations. Furthermore, interested parties submitting petitions that request action with respect to specific products should list on the first page of the petition the following information after typing “2008 Annual GSP Review”: (1) The requested action to waive the competitive need limits; (2) the HTSUS 8-digit subheading in which the product is classified; and (3) the beneficiary developing country.

In order to facilitate prompt consideration of submissions, USTR requires the petitions to be set out in digital files attached to e-mails transmitted to the following address: FR0807@ustr.eop.gov (Note: The digit before the number “8” in the e-mail address is the number “zero” and not a letter.) If you are unable to provide submissions by e-mail, please contact Regina Teeter at USTR's GSP Office at (202) 395-6971 to arrange for an alternative method of transmission. For security reasons, hand-delivered submissions will not be accepted. E-mail submissions should be single copy transmissions in English with the total submission including attachments not to exceed 30 single-spaced standard letter sized pages in 12-point type and three megabytes as a digital file attached to an e-mail transmission. E-mails should use the following subject line: “2008 Annual GSP Review-CNLW Petition.” The transmittal message or cover letter accompanying a submission must be set out exclusively in the digital file attached to the e-mail—not in the message portion of the e-mail—and must include the sender's name, organization name, address, telephone and fax numbers, and e-mail address.

Digital files must be submitted in one of the following formats: WordPerfect (“.WPD”), MSWord (“.DOC”), text (“.TXT”), or Adobe (“PDF”) files. Documents cannot be submitted as electronic image files or contain embedded images (for example, “.JPG”, “.TIF”, “.BMP”, or “.GIF”). Spreadsheet data may be submitted as Excel files, formatted for printing on 8½ x 11 inch paper. To the extent possible, any data accompanying the submission should be included in the same file as the submission itself, and not in a separate file.

If the submission contains business confidential information that the submitter wishes to protect from public disclosure, the confidential version must be marked “BUSINESS CONFIDENTIAL” at the top and bottom of each page. In addition, the submission must be accompanied by a non-confidential version that indicates, with asterisks, where confidential information was redacted or deleted. The top and bottom of each page of the non-confidential version must be marked either “PUBLIC VERSION” or “NON-CONFIDENTIAL”. Business confidential comments that are submitted without the required markings or are not accompanied by a properly marked non-confidential version as set forth above may not be accepted or may be treated as public documents.

The digital file name assigned to any business confidential version of a submission should begin with the characters “BC-”, and the file name of the public version should begin with the characters “P-”. The “P-” or “BC-” should be followed by the name of the person (government, company, union, association, etc.) making the submission.

Public versions of all documents in response to this notice will be available for review approximately one week after the due date by appointment in the USTR public reading room, 1724 F Street, NW., Washington, DC. Appointments may be made from 9:30 a.m. to noon and 1 p.m. to 4 p.m., Monday through Friday, by calling (202) 395-6186.

Marideth Sandler,
Executive Director, GSP Program, Chairman, GSP Subcommittee of the Trade Policy Staff Committee.

[FR Doc. E8-24593 Filed 10-15-08; 8:45 am]

BILLING CODE 3190-W9-P